ENVIRONMENTAL PROTECTION AGENCY

[FRL-6729-1]

Adequacy Status of Motor Vehicle Budgets in Submitted State Implementation Plans for Transportation Conformity Purposes; District of Columbia, Maryland, Virginia; Revised Phase II Plans for the Metropolitan Washington D.C. Ozone Nonattainment Area

AGENCY: Environmental Protection Agency (EPA).

ACTION: Notice of adequacy status.

SUMMARY: EPA is announcing that the motor vehicle emissions budgets for the out-years 2015 and 2020 (budgets) established in revised Phase II Plans for the Metropolitan Washington DC Ozone Nonattainment Area are adequate for transportation conformity purposes. The revised Phase II Plans which establish these out-year budgets were submitted by the District of Columbia on March 22, 2000, and by the State of Maryland and Commonwealth of Virginia on March 31, 2000 as State Implementation Plans (SIPs) revisions. These SIP revisions consist of revisions to the attainment plan for the Metropolitan Washington D.C. Ozone Nonattainment Area and have been made to establish revised out-year budgets for 2015 and 2020. EPA has found these out-year budgets adequate for transportation conformity purposes.

DATES: The finding that these out-year budgets of the revised attainment plan are adequate was made in letters dated June 22, 2000 from EPA Region III to the District of Columbia, the State of Maryland and the Commonwealth of Virginia. This adequacy finding is effective on July 18, 2000.

FOR FURTHER INFORMATION CONTACT: Paul T. Wentworth, P.E., U.S. EPA, Region III, 1650 Arch Street, Philadelphia, PA. 19103 at (215) 814-2183 or by e-mail at: wentworth.paul@epa.gov .

SUPPLEMENTARY INFORMATION: Throughout this document “we, us,” or “our” refer to EPA. The word “budgets” refers to the motor vehicle emission budgets for volatile organic compounds (VOCs) and nitrogen oxides (NOX) for the out-years 2015 and 2020. The word “SIP” in this document refers to the revised Phase II SIPs submitted on March 22, 2000, March 31, 2000 and March 31, 2000 by the District, Maryland and Virginia , respectively. The revised Phase II SIPs consist of the revised attainment plan for the one-hour National Ambient Air Quality Standard (NAAQS) for ozone for the Metropolitan Washington DC Nonattainment Area.

On March 2, 1999, the D.C. Circuit Court ruled that budgets contained in submitted SIPs cannot be used for conformity determinations until EPA has affirmatively found them adequate. By transmittal letters dated as shown below, the District, Maryland, and Virginia each formally submitted revisions to the attainment plan for the purpose of establishing out-year budgets for 2015 and 2020 for the Metropolitan Washington DC Ozone Nonattainment Area. The revised Phase II SIPs submittal dates are:

The District of Columbia—March 22, 2000;

Maryland—March 31, 2000;

Virginia—March 31, 2000.

On April 24, 2000, we posted the availability of these revised Phase II SIPs and their budgets on our conformity website for the purpose of soliciting public comment on the adequacy of the budgets. The comment period closed on May 24, 2000.

On June 22, 2000, EPA Region III sent letters to the District of Columbia, the State of Maryland and the Commonwealth of Virginia which constituted final Agency actions on the adequacy of the budgets contained in the revised Phase II SIPs. Those actions were EPA's finding that the mobile budgets contained in the revised attainment plan are adequate for transportation conformity purposes. As a result of our finding, the budgets contained in the submitted revised attainment plans for the Metropolitan Washington D.C. Nonattainment Area may be used for future conformity determinations. This is an announcement of an adequacy finding that we already made on June 22, 2000. The effective date of this finding is July 18, 2000. This finding will also be announced on EPA's website: http://www.epa.gov/oms/traq (once there, click on the “Conformity” button, then look for “Adequacy Review of Submissions for Conformity”). The website will contain a detailed analysis of our adequacy finding and our responses to public comments.

Transportation conformity is required by section 176 of the Clean Air Act. EPA's conformity rule requires that transportation plans, programs, and projects conform to SIPs and establishes the criteria and procedures for determining whether or not they do so. Conformity to a SIP means that transportation activities will not produce new air quality violations, worsen existing violations, or delay timely attainment of the NAAQS. The criteria by which we determine whether a SIP's budgets are adequate for conformity purposes are outlined in 40 CFR 93.118(e)(4).

Please note that an adequacy finding of the mobile budgets of a submitted SIP is separate from EPA's completeness determination on that SIP, and separate from EPA's final action as to whether or not the SIP is approvable. Even if we find budgets adequate, the SIP could later be disapproved. We describe our process for determining the adequacy of submitted SIP budgets in guidance memorandum dated May 14, 1999 and titled “Conformity Guidance on Implementation of March 2, 1999 Conformity Court Decision.” We followed this guidance in making this adequacy finding for the budgets contained in the revised Phase II SIPs submitted on March 22, 2000, March 31, 2000 and March 31, 2000 by the District, Maryland, and Virginia, respectively. You may obtain a copy of this guidance from EPA's conformity web site: http://www.epa.gov/oms/traq (once there, click on the “Conformity” button) or by calling the contact name listed in “For Further Information Contact” section of this notice.

Authority: 42 U.S.C. 7401-7671q.

Dated: June 23, 2000.
Bradley M. Campbell,
Regional Administrator, Region III.

[FR Doc. 00-16736 Filed 6-30-00; 8:45 am]

BILLING CODE 6560-50-P